FEDERAL HOUSING FINANCE AGENCY

Federal Home Loan Bank Members Selected for Community Support Review

AGENCY: Federal Housing Finance Agency.

ACTION: Notice.

SUMMARY: The Federal Housing Finance Agency (FHFA) is announcing the Federal Home Loan Bank (Bank) members it has selected for the 2008-09 fourth quarter review cycle under the FHFA's community support requirements regulation. This notice also prescribes the deadline by which Bank members selected for review must submit Community Support Statements to FHFA.

DATES: Bank members selected for the review cycle under the FHFA's community support requirements regulation must submit completed Community Support Statements to FHFA on or before March 27, 2009.

ADDRESSES: Bank members selected for the 2008-09 fourth quarter review cycle under the FHFA's community support requirements regulation must submit completed Community Support Statements to FHFA either by regular mail at the Federal Housing Finance Agency, Housing Mission and Goals, 1625 Eye Street, NW., Washington, DC 20006, or by electronic mail at LENORA.MORTON@FHFA.GOV.

FOR FURTHER INFORMATION CONTACT: Lenora Morton, Administrative Specialist, Housing Mission and Goals, Federal Housing Finance Agency, by telephone at 202/408-2819, by electronic mail at LENORA.MORTON@FHFA.GOV, or by regular mail at the Federal Housing Finance Agency, 1625 Eye Street, NW., Washington, DC 20006.

SUPPLEMENTARY INFORMATION:

I. Selection for Community Support Review

Section 10(g)(1) of the Federal Home Loan Bank Act (Bank Act) requires FHFA to promulgate regulations establishing standards of community investment or service Bank members must meet in order to maintain access to long-term advances. See 12 U.S.C. 1430(g)(1). The regulations promulgated by FHFA must take into account factors such as the Bank member's performance under the Community Reinvestment Act of 1977 (CRA), 12 U.S.C. 2901 et seq., and record of lending to first-time homebuyers. See 12 U.S.C. 1430(g)(2). Pursuant to section 10(g) of the Bank Act, FHFA has promulgated a community support requirements regulation that establishes standards a Bank member must meet in order to maintain access to long-term advances, and review criteria FHFA must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, FHFA selects approximately one-eighth of the members in each Bank district for community support review each calendar quarter. 12 CFR 944.2(a). FHFA will not review an institution's community support performance until it has been a Bank member for at least one year. Selection for review is not, nor should it be construed as, any indication of either the financial condition or the community support performance of the member.

Each Bank member selected for review must complete a Community Support Statement and submit it to FHFA by the March 27, 2009 deadline prescribed in this notice. 12 CFR 944.2(b)(1)(ii) and (c). On or before February 27, 2009, each Bank will notify the members in its district that have been selected for the 2008-09 fourth quarter community support review cycle that they must complete and submit to FHFA by the deadline a Community Support Statement. 12 CFR 944.2(b)(2)(i). The member's Bank will provide a blank Community Support Statement Form, which also is available on the FHFA's Web site: http://www.fhfb.gov. Upon request, the member's Bank also will provide assistance in completing the Community Support Statement.

FHFA has selected the following members for the 2008-09 fourth quarter community support review cycle:

Federal Home Loan Bank of Boston—District 1
Union Savings Bank | Danbury | Connecticut.
Jewett City Savings Bank | Jewett City | Connecticut.
The First National Bank of Litchfield | Litchfield | Connecticut.
Naugatuck Valley Savings and Loan | Naugatuck | Connecticut.
New Alliance Bank | New Haven | Connecticut.
Newtown Savings Bank | Newtown | Connecticut.
Fairfield County Bank | Ridgefield | Connecticut.
First County Bank | Stamford | Connecticut.
Patriot National Bank | Stamford | Connecticut.
Dutch Point Credit Union, Inc | Wethersfield | Connecticut.
Windsor Locks Federal Credit Union | Windsor Locks | Connecticut.
Bangor Savings Bank | Bangor | Maine.
Bangor Federal Credit Union | Bangor | Maine.
Bar Harbor Savings & Loan Association | Bar Harbor | Maine.
Northeast Bank | Lewiston | Maine.
First Citizens Bank | Presque Isle | Maine.
York County Federal Credit Union | Sanford | Maine.
TD Bank North | Portland | Maine.
North Abington Co-operative Bank | Abington | Massachusetts.
South Adams Savings Bank | Adams | Massachusetts.
Athol Credit Union | Athol | Massachusetts.
Barre Savings Bank | Barre | Massachusetts.
Crescent Credit Union | Brockton | Massachusetts.
Brookline Bank | Brookline | Massachusetts.
North Cambridge Co-operative Bank | Cambridge | Massachusetts.
Cambridge Trust Company | Cambridge | Massachusetts.
Canton Co-Operative Bank | Canton | Massachusetts.
Meetinghouse Cooperative Bank | Dorchester | Massachusetts.
The Edgartown National Bank | Edgartown | Massachusetts.
Fitchburg Savings Bank, FSB | Fitchburg | Massachusetts.
Greenfield Co-operative Bank | Greenfield | Massachusetts.
Haverhill Co-operative Bank | Haverhill | Massachusetts.
Ipswich Co-operative Bank | Ipswich | Massachusetts.
Leominster Credit Union | Leominster | Massachusetts.
Fidelity Cooperative Bank | Leominster | Massachusetts.
Lowell Co-operative Bank | Lowell | Massachusetts.
Marlborough Savings Bank | Marlborough | Massachusetts.
The Milford National Bank & Trust Company | Milford | Massachusetts.
Natick Federal Savings Bank | Natick | Massachusetts.
Institution for Savings in Newburyport & its Vicinity | Newburyport | Massachusetts.
Rockland Federal Credit Union | Rockland | Massachusetts.
South Coastal Bank | Rockland | Massachusetts.
The Cooperative Bank | Roslindale | Massachusetts.
Salem Five Cents Savings Bank | Salem | Massachusetts.
Taupa Lithuanian Federal Credit Union | South Boston | Massachusetts.
Southbridge Credit Union | Southbridge | Massachusetts.
Stoneham Savings Bank | Stoneham | Massachusetts.
Country Bank for Savings | Ware | Massachusetts.
Wellesley Bank | Wellesley | Massachusetts.
South Shore Co-operative Bank | Weymouth | Massachusetts.
Winchester Co-operative Bank | Winchester | Massachusetts.
Bay State Savings Bank | Worcester | Massachusetts.
Cape Cod Cooperative Bank | Yarmouth Port | Massachusetts.
Centrix Bank & Trust | Bedford | New Hampshire.
Northway Bank | Berlin | New Hampshire.
Lancaster National Bank | Lancaster | New Hampshire.
Holy Rosary Regional Credit Union | Rochester | New Hampshire.
Profile Bank | Rochester | New Hampshire.
BankNewport | Newport | Rhode Island.
Citizens Bank of Rhode Island | Providence | Rhode Island.
Greenwood Credit Union | Warwick | Rhode Island.
Brattleboro Savings & Loan Association FA | Brattleboro | Vermont.
Lyndonville Bank | Lyndonville | Vermont.
First Community Bank | Woodstock | Vermont.
Federal Home Loan Bank of New York—District 2
Cape Savings Bank | Cape May Court House | New Jersey.
United Roosevelt Savings Bank | Carteret | New Jersey.
Unity Bank | Clinton | New Jersey.
1st Constitution Bank | Cranbury | New Jersey.
Delanco Federal Savings Bank | Delanco | New Jersey.
Pinnacle Federal Credit Union | Edison | New Jersey.
Columbia Bank | Fair Lawn | New Jersey.
Haven Savings Bank | Hoboken | New Jersey.
Manasquan Savings Bank | Manasquan | New Jersey.
Susquehanna Patriot Bank | Marlton | New Jersey
1st Bank of Sea Isle City | Sea Isle City | New Jersey.
Somerset Valley Bank | Somerville | New Jersey.
Union Center National Bank | Union | New Jersey.
Wawel Savings Bank | Wallington | New Jersey.
Crest Savings Bank | Wildwood | New Jersey.
The Bridgehampton National Bank | Bridgehampton | New York.
Atlas Savings and Loan Association | Brooklyn | New York.
Visions Federal Credit Union | Endicott | New York.
Bank of Smithtown | Hauppauga | New York.
Tompkins Trust Company | Ithaca | New York.
The First National Bank of Jeffersonville | Jeffersonville | New York.
The National Union Bank of Kinderhook | Kinderhook | New York.
Mid-Hudson Valley Federal Credit Union | Kingston | New York.
Medina Savings and Loan Association | Medina | New York.
Isreal Discount Bank of New York | New York | New York.
Emigrant Savings Bank | New York | New York.
NBT Bank, N.A. | Norwich | New York.
The Oneida Savings Bank | Oneida | New York.
Suffolk County National Bank | Riverhead | New York.
Sawyer Savings Bank | Saugerties | New York.
Adirondack Bank | Utica | New York.
Walden Federal Savings and Loan Association | Walden | New York.
Northeast Community Bank | White Plains | New York.
First Central Savings Bank | Whitestone | New York.
City and Suburban Federal Savings Bank | Yonkers | New York.
Banco Bilbao Vizcaya Argentaria Puerto Rico | Hato Rey | Puerto Rico.
Westernbank Puerto Rico | Mayaguez | Puerto Rico.
Federal Home Loan Bank of Pittsburgh—District 3
Christiana Bank & Trust Company | Greenville | Delaware.
ING Bank, fsb | Wilmington | Delaware.
The First National Bank of Wyoming | Wyoming | Delaware.
American Bank | Allentown | Pennsylvania.
Iron Workers Bank | Aston | Pennsylvania.
Brentwood Bank | Bethel Park | Pennsylvania.
National Penn Bank | Boyertown | Pennsylvania.
Union Building & Loan Savings Bank | Bridgewater | Pennsylvania.
Community Bank & Trust Co | Clarks Summit | Pennsylvania.
Clearfield Bank & Trust Company | Clearfield | Pennsylvania.
Centra Bank | Harrisburg | Pennsylvania.
The Dime Bank | Honesdale | Pennsylvania.
Indiana First Bank | Indiana | Pennsylvania.
Jim Thorpe National Bank | Jim Thorpe | Pennsylvania.
Manor National Bank | Manor | Pennsylvania.
Province Bank, FSB | Marietta | Pennsylvania.
The First National Bank of Marysville | Marysville | Pennsylvania.
Standard Bank, PaSB | Monroeville | Pennsylvania.
SB1 Federal Credit Union | Philadelphia | Pennsylvania.
American Heritage Federal Credit Union | Philadelphia | Pennsylvania.
The Philadelphia Trust Company | Philadelphia | Pennsylvania.
New Century Bank | Phoenixville | Pennsylvania.
PNC Bank | Pittsburgh | Pennsylvania.
Allegheny Valley Bank of Pittsburgh | Pittsburgh | Pennsylvania.
Franklin Security Bank | Plains | Pennsylvania.
Somerset Trust Company | Somerset | Pennsylvania.
Univest National Bank and Trust Company | Souderton | Pennsylvania.
Compass Savings Bank | Wilmerding | Pennsylvania.
Sovereign Bank FSB | Wyomissing | Pennsylvania.
Hancock County Savings Bank FSB | Chester | West Virginia.
Citizens National Bank of Elkins | Elkins | West Virginia.
MVB Bank, Inc | Fairmont | West Virginia.
Fayette County National Bank | Fayetteville | West Virginia.
Rock Branch Community Bank | Nitro | West Virginia.
The Bank of Romney | Romney | West Virginia.
Traders Bank | Spencer | West Virginia.
Progressive Bank, N.A | Wheeling | West Virginia.
Federal Home Loan Bank of Atlanta—District 4
America's First Federal Credit Union | Birmingham | Alabama.
First Educators Credit Union | Birmingham | Alabama.
First Bank of Boaz | Boaz | Alabama.
Town-Country National Bank | Camden | Alabama.
Coosa Pines Federal Credit Union | Childersburg | Alabama.
Escambia County Bank | Flomaton | Alabama.
First Federal Bank | Fort Payne | Alabama.
Traders & Farmers Bank | Haleyville | Alabama.
City Bank of Hartford | Hartford | Alabama.
Worthington Federal Bank | Huntsville | Alabama.
Pinnacle Bank | Jasper | Alabama.
First National Bank of Jasper | Jasper | Alabama.
Marion Bank and Trust Company | Marion | Alabama.
Bank of Pine Hill | Pine Hill | Alabama.
First Gulf Bank, NA | Summerdale | Alabama.
Alabama Credit Union | Tuscaloosa | Alabama.
First Federal Bank, A Federal Savings Bank | Tuscaloosa | Alabama.
AmeriFirst Bank | Union Springs | Alabama.
Small Town Bank | Wedowee | Alabama.
Bank of York | York | Alabama.
DVA Federal Credit Union | Washington | DC.
Independence Federal Savings Bank | Washington | DC.
Community National Bank of Bartow | Bartow | Florida.
First Southern Bank | Boca Raton | Florida.
Platinum Bank | Brandon | Florida.
Citizens Bank & Trust | Frostproof | Florida.
Columbia Bank | Lake City | Florida.
Pacific National Bank | Miami | Florida.
Northern Trust, NA | Miami | Florida.
City National Bank of Florida | Miami | Florida.
Metro Bank of Dade County | Miami | Florida.
Intercredit Bank, N.A | Miami | Florida.
Interamerican Bank, a Federal Savings Bank | Miami | Florida.
Farmers and Merchants Bank | Monticello | Florida.
The First National Bank of Mount Dora | Mount Dora | Florida.
First Commercial Bank of Florida | Orlando | Florida.
Fairwinds Credit Union | Orlando | Florida.
Republic Bank | Port Richey | Florida.
First Peoples Bank | Port St. Lucie | Florida.
Community Educators' Credit Union | Rockledge | Florida.
First Community Bank of America | St. Petersburg | Florida.
Cornerstone Community Bank | St. Petersburg | Florida.
Valrico State Bank | Valrico | Florida.
Grand Bank & Trust of Florida | West Palm | Florida.
The Perkins State Bank | Williston | Florida.
Albany Bank and Trust | Albany | Georgia.
Bank of North Georgia | Alpharetta | Georgia.
United Americas Bank, N.A | Atlanta | Georgia
ebank | Atlanta | Georgia.
SunTrust Bank | Atlanta | Georgia.
First Port City Bank | Bainbridge | Georgia.
Peoples State Bank and Trust | Baxley | Georgia.
Bank of Early | Blakely | Georgia.
The Coastal Bank of Georgia | Brunswick | Georgia.
West Georgia National Bank | Carrollton | Georgia.
Unity National Bank | Cartersville | Georgia.
Tippins Bank and Trust Company | Claxton | Georgia.
The Citizens Bank of Forsyth County | Cumming | Georgia.
Alliance National Bank | Dalton | Georgia.
First Bank of Dalton | Dalton | Georgia.
Decatur First Bank | Decatur | Georgia.
The Bank of Edison | Edison | Georgia.
Talbot State Bank | Fayetteville | Georgia.
Colony Bank | Fitzgerald | Georgia.
Community Banking Company of Fitzgerald | Fitzgerald | Georgia.
Farmers State Bank | Lumpkin | Georgia.
The Security State Bank | McRae | Georgia.
First Bank of Coastal Georgia | Pembroke | Georgia.
First Peoples Bank | Pine Mountain | Georgia.
Citizens Bank of Washington County | Sandersville | Georgia.
Bank of Hancock County | Sparta | Georgia.
Thomas County Federal S&L Association | Thomasville | Georgia.
Stephens Federal Bank | Toccoa | Georgia.
Bank of Dade | Trenton | Georgia.
Commercial Banking Company | Valdosta | Georgia.
Vidalia Federal Savings Bank | Vidalia | Georgia.
Darby Bank and Trust Company | Vidalia | Georgia.
Altamaha Bank and Trust Company | Vidalia | Georgia.
Bank of Dooly | Vienna | Georgia.
The Peoples Bank | Willacoohee | Georgia.
The Peoples Bank | Winder | Georgia.
Harford Bank | Aberdeen | Maryland.
Municipal Employees Credit Union of Baltimore | Baltimore | Maryland.
Fairmount Federal Savings Bank | Baltimore | Maryland.
Hopkins Federal Savings Bank | Baltimore | Maryland.
Chesapeake Bank of Maryland | Baltimore | Maryland.
Rosedale Federal Savings & Loan Association | Baltimore | Maryland.
Arundel Federal Savings Bank | Baltimore | Maryland.
Madison Square Federal Savings Bank | Baltimore | Maryland.
Marriott Employees Federal Credit Union | Bethesda | Maryland.
Chevy Chase Bank, F.S.B. | Bethesda | Maryland.
U.S. Postal Service Federal Credit Union | Clinton | Maryland.
Suburban Federal Savings Bank | Crofton | Maryland.
The Bank of Delmarva | Delmar | Maryland.
The Patapsco Bank | Dundalk | Maryland.
OBA Bank | Germantown | Maryland.
Library of Congress Federal Credit Union | Hyattsville | Maryland.
Community Bank of Tri-County | Waldorf | Maryland.
Woodsboro Bank | Woodsboro | Maryland.
Asheville Savings Bank | Asheville | North Carolina.
The Bank of Asheville | Asheville | North Carolina.
Crescent State Bank | Cary | North Carolina.
Charlotte Metro Credit Union | Charlotte | North Carolina.
First Trust Bank | Charlotte | North Carolina.
Cherryville Federal S&L Association | Cherryville | North Carolina.
First Federal Bank | Dunn | North Carolina.
North Carolina Community Federal Credit Union | Goldsboro | North Carolina.
First Federal Savings Bank | Lincolnton | North Carolina.
Mooresville Savings Bank, SSB | Mooresville | North Carolina.
Lumbee Guaranty Bank | Pembroke | North Carolina.
Paragon Commercial Bank | Raleigh | North Carolina.
Local Government Federal Credit Union | Raleigh | North Carolina.
Roanoke Valley Savings Bank, SSB | Roanoke Rapids | North Carolina.
Roxboro Savings Bank, SSB | Roxboro | North Carolina.
First South Bank | Washington | North Carolina.
WNC Community Credit Union | Waynesville | North Carolina.
Truliant Federal Credit Union | Winston-Salem | North Carolina.
Abbeville Savings and Loan Association | Abbeville | South Carolina.
The Conway National Bank | Conway | South Carolina.
First Piedmont FS&LA of Gaffney | Gaffney | South Carolina.
S.C. Telco Federal Credit Union | Greenville | South Carolina.
Citizens Building and Loan Association | Greer | South Carolina.
Mutual Savings Bank | Hartsville | South Carolina.
The Commercial Bank | Honea Path | South Carolina.
Founders Federal Credit Union | Lancaster | South Carolina.
First Community Bank, N.A | Lexington | South Carolina.
Pee Dee Federal Savings Bank | Marion | South Carolina.
South Carolina Federal Credit Union | North Charleston | South Carolina.
First Savers Bank | Pawleys Island | South Carolina.
Family Trust Federal Credit Union | Rock Hill | South Carolina.
Seneca National Bank | Seneca | South Carolina.
Oconee Federal Savings and Loan Association | Seneca | South Carolina.
Community First Bank | Walhalla | South Carolina.
First Federal of South Carolina, FSB | Walterboro | South Carolina.
Bank of Walterboro | Walterboro | South Carolina.
Citizens Bank and Trust Company | Blackstone | Virginia.
First Community Bank, N.A | Bluefield | Virginia.
Alliance Bank Corporation | Chantilly | Virginia.
Monarch Bank | Chesapeake | Virginia.
Acacia Federal Savings Bank | Falls Church | Virginia.
Virginia Savings Bank, F.S.B | Front Royal | Virginia.
Virginia Community Bank | Louisa | Virginia.
Martinsville First Savings Bank | Martinsville | Virginia.
Cardinal Bank | McLean | Virginia.
Community Bankers' Bank | Midlothian | Virginia.
TowneBank | Portsmouth | Virginia.
Millennium Bank, N.A | Reston | Virginia.
Partners Financial Federal Credit Union | Richmond | Virginia.
Shenandoah Life Insurance Company | Roanoke | Virginia.
Fort Belvoir Federal Credit Union | Woodbridge | Virginia.
Federal Home Loan Bank of Cincinnati—District 5
Home Federal Savings and Loan Association of Ashland | Ashland | Kentucky.
Kentucky Federal Savings and Loan Association | Covington | Kentucky.
The Casey County Bank | Liberty | Kentucky.
Louisville Community Development Bank | Louisville | Kentucky.
Home Savings Bank, fsb | Ludlow | Kentucky.
First Guaranty Bank | Martin | Kentucky.
Bank of Maysville | Maysville | Kentucky.
Hart County Bank and Trust Company | Munfordville | Kentucky.
The Farmers Bank | Nicholasville | Kentucky.
First Security Bank of Owensboro, Inc | Owensboro | Kentucky.
Independence Bank | Owensboro | Kentucky.
Owingsville Banking Company | Owingsville | Kentucky.
Family Bank, FSB | Paintsville | Kentucky.
Community Trust Bank, Inc | Pikeville | Kentucky.
Madison Bank | Richmond | Kentucky.
Citizens National Bank of Somerset | Somerset | Kentucky.
Cumberland Security Bank, Inc | Somerset | Kentucky.
Commercial Bank | West Liberty | Kentucky.
The Antwerp Exchange Bank Company | Antwerp | Ohio.
Hocking Valley Bank | Athens | Ohio.
Rockhold, Brown & Company Bank | Bainbridge | Ohio.
Citizens Federal Savings and Loan Association of Bellefontaine | Bellefontaine | Ohio
The Citizens Bank Company | Beverly | Ohio.
Mercer Savings Bank | Celina | Ohio.
The Cheviot Savings Bank | Cheviot | Ohio.
Cincinnati Police Federal Credit Union | Cincinnati | Ohio.
The North Side Bank and Trust Company | Cincinnati | Ohio.
Kemba Credit Union, Inc. | Cincinnati | Ohio.
Cincinnati Federal Savings and Loan Association | Cincinnati | Ohio.
PNC/NCB | Cleveland | Ohio.
AmTrust | Cleveland | Ohio.
Commerce National Bank | Columbus | Ohio.
The Home Loan Savings Bank | Coshocton | Ohio.
The Covington Savings and Loan Association | Covington | Ohio.
The Citizens Bank of DeGraff | De Graff | Ohio.
Midwest Community FCU | Defiance | Ohio.
First National Bank of Germantown | Germantown | Ohio.
Chaco Credit Union, Inc | Hamilton | Ohio.
The Hicksville Bank | Hicksville | Ohio.
The Citizens Bank of Higginsport | Higginsport | Ohio.
The Delaware County Bank & Trust Company | Lewis Center | Ohio.
The Home Builders Association | Lynchburg | Ohio.
The Bank of Magnolia Company | Magnolia | Ohio.
The Citizens Savings Bank | Martins Ferry | Ohio.
Peoples First SB | Mason | Ohio.
Western Reserve Bank | Medina | Ohio.
Bramble Savings Bank | Milford | Ohio.
The Commercial & Savings Bank of Millersburg | Millersburg | Ohio.
The First National Bank of Nelsonville | Nelsonville | Ohio.
Peoples National Bank | New Lexington | Ohio.
The First National Bank of Pandora | Pandora | Ohio.
Century Bank | Parma | Ohio.
Farmers Bank and Savings Company | Pomeroy | Ohio.
The St. Henry Bank | St. Henry | Ohio.
The Arlington Bank | Upper Arlington | Ohio.
The First Citizens National Bank of Upper Sandusky | Upper Sandusky | Ohio.
The Commercial Savings Bank | Upper Sandusky | Ohio.
The Versailles Savings and Loan Company | Versailles | Ohio.
First National Bank of Waverly | Waverly | Ohio.
Spring Valley Bank | Wyoming | Ohio.
The Home Savings and Loan Company of Youngstown Ohio | Youngstown, | Ohio.
Athens Federal Community Bank | Athens | Tennessee.
People's Bank and Trust Company of Pickett County | Byrdstown | Tennessee.
Bank of Camden | Camden | Tennessee.
Fort Campbell Federal Credit Union | Clarksville | Tennessee.
Legends Bank | Clarksville | Tennessee.
BankTennessee | Collierville | Tennessee.
Greenfield Banking Company | Greenfield | Tennessee.
First Peoples Bank of Tennessee | Jefferson City | Tennessee.
Lawrenceburg FS&LA | Lawrenceburg | Tennessee.
Community Bank | Lexington | Tennessee.
Union Bank & Trust Company | Livingston | Tennessee.
City of Memphis Credit Union | Memphis | Tennessee.
Farmers State Bank | Mountain City | Tennessee.
Citizens Savings Bank & Trust Company | Nashville | Tennessee.
The Tennessee Credit Union | Nashville | Tennessee.
The First National Bank of Oneida | Oneida | Tennessee.
First Trust & Savings Bank | Oneida | Tennessee.
Citizens Bank and Trust Company of Grainger County | Rutledge | Tennessee.
The Bank of Waynesboro | Waynesboro | Tennessee.
Federal Home Loan Bank of Indianapolis—District 6
Knisely Bank | Butler | Indiana.
The Elberfeld State Bank | Elberfeld | Indiana.
FORUM Credit Union | Fishers | Indiana.
Mutual Savings Bank | Franklin | Indiana.
First FS & LA of Hammond | Hammond | Indiana.
First Indiana Bank | Indianapolis | Indiana.
The Lafayette Life Insurance Company | Lafayette | Indiana.
Farmers State Bank | LaGrange | Indiana.
Linden State Bank | Linden | Indiana.
MFB Financial | Mishawaka | Indiana.
St. Joseph Capital Bank | Mishawaka | Indiana.
West End Bank, S.B | Richmond | Indiana.
Scott County State Bank | Scottsburg | Indiana.
Communitywide Federal Credit Union | South Bend | Indiana.
Indiana State University Federal Credit Union | Terre Haute | Indiana.
Steel Parts Federal Credit Union | Tipton | Indiana.
Purdue Employees Federal Credit Union | West Lafayette | Indiana.
United Communities National Bank | Winchester | Indiana.
TLC Community Credit Union | Adrian | Michigan.
Sunrise Family Credit Union | Bay City | Michigan.
Brighton Commerce Bank | Brighton | Michigan.
Macomb Community Bank | Clinton Township | Michigan.
DFCU Financial | Dearborn | Michigan.
Community Bank of Dearborn | Dearborn | Michigan.
First Independence Bank | Detroit | Michigan.
Communicating Arts Credit Union | Detroit | Michigan.
Michigan State University FCU | East Lansing | Michigan.
Northern Michigan Bank & Trust | Escanaba | Michigan.
Citizens Bank | Flint | Michigan.
Grand Haven Bank | Grand Haven | Michigan.
Northpointe Bank | Grand Rapids | Michigan.
Lake Michigan Credit Union | Grand Rapids | Michigan.
Mercantile Bank of Michigan | Grand Rapids | Michigan.
Greenville Community Bank | Greenville | Michigan.
Mainstreet Savings Bank, FSB | Hastings | Michigan.
The Bank of Holland | Holland | Michigan.
Honor State Bank | Honor | Michigan.
Ionia County National Bank of Ionia | Ionia | Michigan.
First National Bank and Trust Company of Iron Mountain | Iron Mountain | Michigan.
Mayville State Bank | Mayville | Michigan.
Wolverine Bank, FSB | Midland | Michigan.
Dow Chemical Employee Credit Union | Midland | Michigan.
Northland Area Federal Credit Union | Oscoda | Michigan.
The Port Austin State Bank | Port Austin | Michigan.
Portage Commerce Bank | Portage | Michigan.
Central Savings Bank | Sault Ste. Marie | Michigan.
Sturgis Bank & Trust Company | Sturgis | Michigan.
First Savings Bank, FSB | Three Rivers | Michigan.
Howmet Credit Union | Whitehall | Michigan.
Federal Home Loan Bank of Chicago—District 7
Citizens National Bank of Albion | Albion | Illinois.
Anna-Jonesboro National Bank | Anna | Illinois.
The First National Bank of Arcola | Arcola | Illinois.
Arcola Homestead Savings Bank | Arcola | Illinois.
The First National Bank of Arenzville | Arenzville | Illinois.
Ben Franklin Bank of Illinois | Arlington Heights | Illinois.
State Bank of Ashland | Ashland | Illinois.
Farmers State Bank of Astoria | Astoria | Illinois.
The Atlanta National Bank | Atlanta | Illinois.
Scott State Bank | Bethany | Illinois.
First State Bank of Bloomington | Bloomington | Illinois.
Midland Federal Savings and Loan Association | Bridgeview | Illinois.
First National Bank of Brookfield | Brookfield | Illinois.
Farmers and Merchants State Bank of Bushnell | Bushnell | Illinois.
Byron Bank | Byron | Illinois.
First State Bank of Campbell Hill | Campbell Hill | Illinois.
Carrollton Bank | Carrollton | Illinois.
State Bank of Cherry | Cherry | Illinois.
Bank of Chestnut | Chestnut | Illinois.
Chicago Patrolmens Federal Credit Union | Chicago | Illinois.
Royal Savings Bank | Chicago | Illinois.
American Metro Bank | Chicago | Illinois.
Loomis Federal Savings & Loan Association | Chicago | Illinois.
MB Financial Bank | Chicago | Illinois.
North Side Federal Savings and Loan Association of Chicago | Chicago | Illinois.
Seaway National Bank of Chicago | Chicago | Illinois.
Hoyne Savings Bank | Chicago | Illinois.
Central Federal Savings and Loan Association | Cicero | Illinois.
Second Federal Savings and Loan Association | Cicero | Illinois.
Central State Bank | Clayton | Illinois.
DeWitt Savings Bank | Clinton | Illinois.
First Collinsville Bank | Collinsville | Illinois.
First United Bank | Crete | Illinois.
Crystal Lake Bank & Trust Company, N.A | Crystal Lake | Illinois.
Soy Capital Bank & Trust Company | Decatur | Illinois.
Castle Bank, N.A | DeKalb | Illinois.
Downers Grove National Bank | Downers Grove | Illinois.
Erie State Bank | Erie | Illinois.
Community First Bank | Fairview Heights | Illinois.
Bank of Farmington | Farmington | Illinois.
First State Bank of Forrest | Forrest | Illinois.
Community State Bank | Galva | Illinois.
Gifford State Bank | Gifford | Illinois.
Harvard Savings Bank | Harvard | Illinois.
Mutual Bank | Harvey | Illinois.
Premier Bank of Jacksonville | Jacksonville | Illinois.
Joy State Bank | Joy | Illinois.
First Trust Bank of Illinois | Kankakee | Illinois.
First National Bank of LaGrange | LaGrange | Illinois.
Exchange State Bank | Lanark | Illinois.
Lemont National Bank | Lemont | Illinois.
State Bank of Lincoln | Lincoln | Illinois.
Prairie Community Bank | Marengo | Illinois.
A.J. Smith Federal Savings Bank | Midlothian | Illinois.
Southeast National Bank | Moline | Illinois.
Security Savings Bank | Monmouth | Illinois.
Farmers State Bank and Trust Company | Mt. Sterling | Illinois.
The First National Bank | Mulberry Grove | Illinois.
First County Bank | New Baden | Illinois.
Warren-Boynton State Bank | New Berlin | Illinois.
Peoples State Bank of Newton | Newton | Illinois.
Old Exchange National Bank | Okawville | Illinois.
First Personal Bank | Orland Park | Illinois.
Ottawa Savings Bank | Ottawa | Illinois.
Peoples Bank & Trust | Pana | Illinois.
State Bank of Paw Paw | Paw Paw | Illinois.
Farmers-Merchants National Bank of Paxton | Paxton | Illinois.
Better Banks | Peoria | Illinois.
The Heights Bank | Peoria Heights | Illinois.
Town & Country Bank of Quincy | Quincy | Illinois.
Community State Bank of Rock Falls | Rock Falls | Illinois.
Alpine Bank of Illinois | Rockford | Illinois.
Rushville State Bank | Rushville | Illinois.
AmericaUnited Bank and Trust Company USA | Schaumburg | Illinois.
American Chartered Bank | Schaumburg | Illinois.
State Bank of Speer | Speer | Illinois.
Illini Bank | Springfield | Illinois.
Tuscola National Bank | Tuscola | Illinois.
Baxter Credit Union | Vernon Hills | Illinois.
Petefish, Skiles and Company Bank | Virginia | Illinois.
First DuPage Bank | Westmont | Illinois.
Community Bank | Winslow | Illinois.
State Bank | Wonder Lake | Illinois.
Portage County Bank | Almond | Wisconsin.
Pioneer Bank | Auburndale | Wisconsin.
First Bank of Baldwin | Baldwin | Wisconsin.
Black River Country Bank | Black River Falls | Wisconsin.
Bonduel State Bank | Bonduel | Wisconsin.
Bank of Cashton | Cashton | Wisconsin.
Farmers & Merchants Union Bank | Columbus | Wisconsin.
Wisconsin Community Bank | Cottage Grove | Wisconsin.
Cumberland Federal Bank, FSB | Cumberland | Wisconsin.
Town Bank | Delafield | Wisconsin.
Cornerstone Community Bank | Grafton | Wisconsin.
Bay Bank | Green Bay | Wisconsin.
Highland State Bank | Highland | Wisconsin.
The Park Bank | Holmen | Wisconsin.
Security State Bank | Iron River | Wisconsin.
East Wisconsin Savings Bank, S.A | Kaukauna | Wisconsin.
Greenwood's State Bank | Lake Mills | Wisconsin.
Bank of Milton | Milton | Wisconsin.
Bank Mutual | Milwaukee | Wisconsin.
Securant Bank & Trust | Milwaukee | Wisconsin.
First National Bank—Fox Valley | Neenah | Wisconsin.
Mound City Bank | Platteville | Wisconsin.
Clare Bank, N.A. | Platteville | Wisconsin.
First National Bank of Platteville | Platteville | Wisconsin.
First National Bank of River Falls | River Falls | Wisconsin.
Intercity State Bank | Schofield | Wisconsin.
Community Bank & Trust | Sheboygan | Wisconsin.
Bank of Sun Prairie | Sun Prairie | Wisconsin.
The State Bank of Viroqua | Viroqua | Wisconsin.
Walworth State Bank | Walworth | Wisconsin.
First Federal Bank of Wisconsin | Waukesha | Wisconsin.
River Cities Bank | Wisconsin Rapids | Wisconsin.
KeySavings Bank | Wisconsin Rapids | Wisconsin.
Wood Trust Bank, NA | Wisconsin Rapids | Wisconsin.
Federal Home Loan Bank of Des Moines—District 8
Gateway Savings Bank | Ankeny | Iowa.
Landmands National Bank | Audubon | Iowa.
Community Bank of Boone | Boone | Iowa.
Commercial Savings Bank | Carroll | Iowa.
Iowa Savings Bank | Carroll | Iowa.
Page County State Bank | Clarinda | Iowa.
Linn County State Bank | Coggon | Iowa.
Farmers Savings Bank | Colesburg | Iowa.
Okey Vernon First National Bank | Corning | Iowa.
Corydon State Bank | Corydon | Iowa.
Fortress Bank of Cresco | Cresco | Iowa.
Alliant Credit Union | Dubuque | Iowa.
First National Bank in Fairfield | Fairfield | Iowa.
Farmers Savings Bank | Fostoria | Iowa.
Grinnell Mutual Reinsurance Company | Grinnell | Iowa.
Security State Bank | Hubbard | Iowa.
Security State Bank | Hubbard | Iowa.
Farmers State Bank | Jesup | Iowa.
First State Bank of Mapleton | Mapleton | Iowa.
Maxwell State Bank | Maxwell | Iowa.
Bridge Community Bank | Mechanicsville | Iowa.
State Bank and Trust Company | Nevada | Iowa.
New Vienna Savings Bank | New Vienna | Iowa.
First Newton National Bank | Newton | Iowa.
First State Bank | Nora Springs | Iowa.
The First National Bank, Oelwein | Oelwein | Iowa.
City State Bank | Ogden | Iowa.
American State Bank | Osceola | Iowa.
Panora State Bank | Panora | Iowa.
Marion County State Bank | Pella | Iowa.
Savings Bank | Primghar | Iowa.
Readlyn Savings Bank | Readlyn | Iowa.
Premier Bank | Rock Valley | Iowa.
Home State Bank | Royal | Iowa.
Iowa State Bank | Sac City | Iowa.
Sanborn Savings Bank | Sanborn | Iowa.
The State Bank | Spirit Lake | Iowa.
The State Bank of Toledo | Toledo | Iowa.
Farmers Savings Bank | Walford | Iowa.
Iowa State Bank | Wapello | Iowa.
State Bank and Trust Company | Waverly | Iowa.
First State Bank | Webster City | Iowa.
Freedom Financial Bank | West Des Moines | Iowa.
Union State Bank | Winterset | Iowa.
Farmers & Merchants State Bank | Winterset | Iowa.
First State Bank of Alexandria | Alexandria | Minnesota.
Altura State Bank | Altura | Minnesota.
First State Bank and Trust | Bayport | Minnesota.
First National Bank Bemidji | Bemidji | Minnesota.
American National Bank of Minnesota | Brainerd | Minnesota.
State Bank of Bricelyn | Bricelyn | Minnesota.
Farmers and Merchants State Bank | Clarkfield | Minnesota.
The First National Bank of Coleraine | Coleraine | Minnesota.
Farmers State Bank of Dent | Dent | Minnesota.
Northwestern Bank N.A | Dilworth | Minnesota.
Western National Bank | Duluth | Minnesota.
Fidelity Bank | Edina | Minnesota.
State Bank of Fairmont | Fairmont | Minnesota.
Franklin State Bank | Franklin | Minnesota.
Commerce Bank | Geneva | Minnesota.
First National Bank | Gilbert | Minnesota.
Eagle Bank | Glenwood | Minnesota.
Yellow Medicine County Bank | Granite Falls | Minnesota.
Marshall Bank National Association | Hallock | Minnesota.
1st American State Bank of Minnesota | Hancock | Minnesota.
First Southeast Bank | Harmony | Minnesota.
Farmers State Bank of Hartland | Hartland | Minnesota.
Merchant Bank, National Association | Hastings | Minnesota.
Exchange State Bank | Hills | Minnesota.
CornerStone State Bank | La Sueur | Minnesota.
First Community Bank Lester Prairie | Lester Prairie | Minnesota.
Center National Bank | Litchfield | Minnesota.
Northern Star Bank | Mankato | Minnesota.
First National Bank of Montgomery | Montgomery | Minnesota.
United Farmers & Merchants State Bank | Morris | Minnesota.
Lakewood Bank N.A. | Nisswa | Minnesota.
Citizens State Bank Norwood Young America | Norwood Young America | Minnesota.
Washington County Bank | Oakdale | Minnesota.
Odin State Bank | Odin | Minnesota.
Prinsburg State Bank | Prinsburg | Minnesota.
Randall State Bank | Randall | Minnesota.
Woodland Bank | Remer | Minnesota.
Home Federal Savings Bank | Rochester | Minnesota.
North Star Bank | Roseville | Minnesota.
Unity Bank | Rush City | Minnesota.
First Community Bank | Savage | Minnesota.
First Community Bank Silver Lake | Silver Lake | Minnesota.
Park Midway Bank | St. Paul | Minnesota.
Integrity Plus Bank | Wabasso | Minnesota.
Citizens State Bank of Waverly, Inc | Waverly | Minnesota.
Community Bank Minnesota Valley | Wayzata | Minnesota.
Wells Federal Bank | Wells | Minnesota.
St. Paul Postal Employees Credit Union | Woodbury | Minnesota.
Worthington Federal Savings Bank f.s.b | Worthington | Minnesota.
First State Bank Southwest | Worthington | Minnesota.
First Missouri National Bank | Brookfield | Missouri.
BC National Banks | Butler | Missouri.
Community First Bank | Butler | Missouri.
Carroll County Savings and Loan Association | Carrollton | Missouri.
Investors National Bank | Chillicothe | Missouri.
Chillicothe State Bank | Chillicothe | Missouri.
Boone National Savings and Loan | Columbia | Missouri.
Concordia Bank | Concordia | Missouri.
Ozarks Federal Savings and Loan Association | Farmington | Missouri.
First State Community Bank | Farmington | Missouri.
Eagle Bank & Trust Company of Missouri | Festus | Missouri.
The Callaway Bank | Fulton | Missouri.
Northland National Bank | Gladstone | Missouri.
Bank Northwest | Hamilton | Missouri.
HNB National Bank | Hannibal | Missouri.
Peoples Savings Bank of Rhineland | Hermann | Missouri.
Bank of Iberia | Iberia | Missouri.
Generations Bank | Kansas City | Missouri.
Kennett National Bank | Kennett | Missouri.
Lamar Bank & Trust Company | Lamar | Missouri.
Central Bank | Lebanon | Missouri.
Summit Bank of Kansas City | Lee's Summit | Missouri.
Legends Bank | Linn | Missouri.
First National Bank | Malden | Missouri.
Wood & Huston Bank | Marshall | Missouri.
Community Bank of Marshall | Marshall | Missouri.
The First National Bank of Audrain County | Mexico | Missouri.
Peoples Bank of the Ozarks | Nixa | Missouri.
First Midwest Bank of the Ozarks | Piedmont | Missouri.
The State Bank | Richmond | Missouri.
Town & Country Bank | Salem | Missouri.
Farmers State Bank, S/B | Schell City | Missouri.
Third National Bank | Sedalia | Missouri.
Senath State Bank | Senath | Missouri.
The Community Bank of Shell Knob | Shell Knob | Missouri.
Old Missouri National Bank | Springfield | Missouri.
First State Bank of St. Charles | St. Charles | Missouri.
The PrivateBank | St. Louis | Missouri.
Midwest BankCentre | St. Louis | Missouri.
Bank of Thayer | Thayer | Missouri.
Quarry City Savings and Loan Association | Warrensburg | Missouri.
First State Bank of Cando | Cando | North Dakota.
Citizens State Bank—Midwest | Cavalier | North Dakota.
Union State Bank of Fargo | Fargo | North Dakota.
U.S. Bank, N.A | Fargo | North Dakota.
State Bank & Trust of Kenmare | Kenmare | North Dakota.
Farmers & Merchants State Bank | Langdon | North Dakota.
First Western Bank & Trust | Minot | North Dakota.
Lakeside State Bank | New Town | North Dakota.
McKenzie County Bank | Watford City | North Dakota.
BankStar Financial | Elkton | South Dakota.
Farmers State Bank | Flandreau | South Dakota.
First State Bank of Claremont | Groton | South Dakota.
Dakotaland Federal Credit Union | Huron | South Dakota.
BankFirst | Sioux Falls | South Dakota.
Home Federal Bank | Sioux Falls | South Dakota.
Great Western Bank | Sioux Falls | South Dakota.
First State Bank | Wilmot | South Dakota.
First National Bank South Dakota | Yankton | South Dakota.
Federal Home Loan Bank of Dallas—District 9
First Community Bank | Batesville | Arkansas.
Farmers Bank and Trust Company | Blytheville | Arkansas.
First State Bank | Conway | Arkansas.
River Town Bank | Dardanelle | Arkansas.
First Financial Bank | El Dorado | Arkansas.
First State Bank of Northwest Arkansas | Fayetteville | Arkansas.
Fordyce Bank & Trust Company | Fordyce | Arkansas.
Forrest City Bank, NA | Forrest City | Arkansas.
Benefit Bank | Ft. Smith | Arkansas.
Simmons First Bank of South Arkansas | Lake Village | Arkansas.
Southern State Bank | Malvern | Arkansas.
Allied Bank | Mulberry | Arkansas.
The First National Bank at Paris | Paris | Arkansas.
Delta Trust & Bank | Parkdale | Arkansas.
Pine Bluff National Bank | Pine Bluff | Arkansas.
Simmons First Bank of Northwest Arkansas | Rogers | Arkansas.
FNB of Stuttgart | Stuttgart | Arkansas.
Red River Bank | Alexandria | Louisiana.
E Federal Credit Union | Baton Rouge | Louisiana.
Bank of Coushatta | Coushatta | Louisiana.
St. Tammany Homestead Savings & Loan Association | Covington | Louisiana.
City Savings Bank & Trust Company | DeRidder | Louisiana.
Teche Federal Bank | Franklin | Louisiana.
Florida Parishes Bank | Hammond | Louisiana.
Coastal Commerce Bank | Houma | Louisiana.
Synergy Bank | Houma | Louisiana.
Guaranty Savings Bank | Metairie | Louisiana.
Mutual Savings and Loan Association | Metairie | Louisiana.
Eureka Homestead | Metairie | Louisiana.
Hibernia Homestead & Savings Association | New Orleans | Louisiana.
Peoples Bank & Trust Company of Pointe Coupee Parish, Inc | New Roads | Louisiana.
Homestead Bank | Ponchatoula | Louisiana.
American Gateway Bank | Port Allen | Louisiana.
Richland State Bank | Rayville | Louisiana.
Bank of Ringgold | Ringgold | Louisiana.
Ruston Building & Loan Association | Ruston | Louisiana.
First Louisiana Bank | Shreveport | Louisiana.
Bank of St. Francisville | St. Francisville | Louisiana.
The Bank of Commerce | White Castle | Louisiana.
Amory Federal Savings and Loan Association | Amory | Mississippi.
Spirit Bank | Belmont | Mississippi.
The Peoples Bank | Biloxi | Mississippi.
Bank of Brookhaven | Brookhaven | Mississippi.
The Cleveland State Bank | Cleveland | Mississippi.
Commerce National Bank | Corinth | Mississippi.
Bank of Holly Springs | Holly Springs | Mississippi.
Community Bank of Meridian | Meridian | Mississippi.
Britton & Koontz First National Bank | Natchez | Mississippi.
Sycamore Bank | Senatobia | Mississippi.
Mechanics Bank | Water Valley | Mississippi.
First National Bank of Alamogordo | Alamogordo | New Mexico.
International Bank | Raton | New Mexico.
Tucumcari Federal Savings & Loan Association | Tucumcari | New Mexico.
Reliance Standard Life Insurance Company of Texas | Philadelphia | Pennsylvania.
First State Bank | Athens | Texas.
Community Resource Credit Union | Baytown | Texas.
Fannin Bank | Bonham | Texas.
Texas Heritage Bank | Cross Plains | Texas.
Zavala County Bank | Crystal City | Texas.
PlainsCapital Bank | Dallas | Texas.
Credit Union of Texas | Dallas | Texas.
Dallas National Bank | Dallas | Texas.
Nex Bank, SSB | Dallas | Texas.
First United Bank | Dimmitt | Texas.
First National Bank | Dublin | Texas.
Union State Bank | Florence | Texas.
Fort Worth National Bank | Fort Worth | Texas.
OmniAmerican Bank | Fort Worth | Texas.
First State Bank | Frankston | Texas.
Texas Republic Bank, N.A | Frisco | Texas.
Community Bank | Granbury | Texas.
Hebbronville State Bank | Hebbronville | Texas.
Community National Bank | Hondo | Texas.
Central Bank | Houston | Texas.
MetroBank, N.A. | Houston | Texas.
Woodforest National Bank | Houston | Texas.
Southwestern National Bank | Houston | Texas.
Austin Bank | Jacksonville | Texas.
Texas State Bank | Joaquin | Texas.
First State Bank Texas | Keene | Texas.
First National Bank of Lake Jackson | Lake Jackson | Texas.
First Federal Savings & Loan Association | Littlefield | Texas.
Mason National Bank | Mason | Texas.
Inter National Bank | McAllen | Texas.
Western National Bank | Midland | Texas.
Mineola Community Bank S.S.B | Mineola | Texas.
City National Bank | Mineral Wells | Texas.
American National Bank | Mt. Pleasant | Texas.
Commercial Bank of Texas, N.A | Nacogdoches | Texas.
Security State Bank | Odessa | Texas.
Orange Savings Bank | Orange | Texas.
Lone Star National Bank | Pharr | Texas.
Beal Bank, SSB | Plano | Texas.
South Padre Bank, N.A | South Padre Island | Texas.
First Financial Bank, N.A | Southlake | Texas.
First National Bank of Trinity | Trinity | Texas.
Citizens State Bank | Tyler | Texas.
First National Bank of Bosque County | Valley Mills | Texas.
Extraco Banks, National Association | Waco | Texas.
Community Bank and Trust | Waco | Texas.
First National Bank of Central Texas | Waco | Texas.
Federal Home Loan Bank of Topeka—District 10
Citywide Banks | Aurora | Colorado.
Premier Members Federal Credit Union | Boulder | Colorado.
First National Bank, Cortez | Cortez | Colorado.
Del Norte Federal Bank | Del Norte | Colorado.
Rocky Mountain Law Enforcement Federal Credit Union | Denver | Colorado.
Colorado United Credit Union | Denver | Colorado.
Premier Bank | Denver | Colorado.
Bank of the San Juans | Durango | Colorado.
FirstBank of Evergreen | Evergreen | Colorado.
Fort Morgan State Bank | Fort Morgan | Colorado.
Points West Community Bank | Julesberg | Colorado.
Kit Carson State Bank | Kit Carson | Colorado.
The State Bank—La Junta | La Junta | Colorado.
Home State Bank | Loveland | Colorado.
First Colorado National Bank | Paonia | Colorado.
FirstBank of Parker | Parker | Colorado.
The First National Bank of Stratton | Stratton | Colorado.
Home Savings Bank | Chanute | Kansas.
Bank of Commerce | Chanute | Kansas.
Farmers & Merchants Bank of Colby | Colby | Kansas.
Legacy Bank | Colwich | Kansas.
The State Bank of Conway Springs | Conway Springs | Kansas.
Farmers & Drovers Bank | Council Grove | Kansas.
Citizens State Bank & Trust Company | Ellsworth | Kansas.
The State Bank of Kansas | Fredonia | Kansas.
Gardner National Bank | Gardner | Kansas.
Community Bank of the Midwest | Great Bend | Kansas.
The Halstead Bank | Halstead | Kansas.
Security Bank of Kansas City | Kansas City | Kansas.
Douglas County Bank | Lawrence | Kansas.
First National Bank and Trust Company of Leavenworth | Leavenworth | Kansas.
National Bank of Kansas City | Leawood | Kansas.
Lyons State Bank | Lyons | Kansas.
Farmers State Bank | McPherson | Kansas.
The Mission Bank | Mission | Kansas.
Mulvane State Bank | Mulvane | Kansas.
Farmers State Bank | Oakley | Kansas.
First National Bank of Olathe | Olathe | Kansas.
Valley View State Bank | Overland Park | Kansas.
Citizens State Bank | Paola | Kansas.
University National Bank | Pittsburg | Kansas.
Alliant Bank | Sedgwick | Kansas.
TriCentury Bank | Simpson | Kansas.
First Bank | Sterling | Kansas.
Valley State Bank | Syracuse | Kansas.
The Tampa State Bank | Tampa | Kansas.
Kaw Valley Bank | Topeka | Kansas.
Community National Bank | Topeka | Kansas.
INTRUST Bank, N.A. | Wichita | Kansas.
Chisholm Trail State Bank | Wichita | Kansas.
Bank of The Valley | Bellwood | Nebraska.
Bank of Bennington | Bennington | Nebraska.
Washington County Bank | Blair | Nebraska.
Custer Federal Savings and Loan Association | Broken Bow | Nebraska.
First Central Bank | Cambridge | Nebraska.
Citizens State Bank | Carleton | Nebraska.
Ceresco Bank | Ceresco | Nebraska.
First Bank and Trust Company | Cozad | Nebraska.
Jefferson County Bank | Daykin | Nebraska.
First National Bank in Exeter | Exeter | Nebraska.
Farnam Bank | Farnam | Nebraska.
American National Bank of Fremont | Fremont | Nebraska.
First State Bank & Trust Company | Fremont | Nebraska.
Gothenburg State Bank and Trust Company | Gothenburg | Nebraska.
Five Points Bank of Hastings | Hastings | Nebraska.
Henderson State Bank | Henderson | Nebraska.
Farmers State Bank | Maywood | Nebraska.
First Central Bank McCook, NA | McCook | Nebraska.
Farmers and Merchants Bank | Milligan | Nebraska.
Centennial Bank | Omaha | Nebraska.
First National Bank | Omaha | Nebraska.
The Potter State Bank of Potter | Potter | Nebraska.
Peoples-Webster City Bank | Red Cloud | Nebraska.
First State Bank | Shelton | Nebraska.
Sutton State Bank | Sutton | Nebraska.
First National Bank and Trust of Syracuse | Syracuse | Nebraska.
Citizens Bank of Ada | Ada | Oklahoma.
Stockmans Bank | Altus | Oklahoma.
First National Bank in Altus | Altus | Oklahoma.
The First National Bank and Trust Company of Broken Arrow | Broken Arrow | Oklahoma.
Farmers Exchange Bank | Cherokee | Oklahoma.
First National Bank and Trust Company | Chickasha | Oklahoma
1st Bank Oklahoma | Claremore | Oklahoma.
Kirkpatrick Bank | Edmond | Oklahoma.
Bank of Western Oklahoma | Elk City | Oklahoma.
Liberty Federal Savings Bank | Enid | Oklahoma.
Fairview Savings and Loan Association | Fairview | Oklahoma.
Oklahoma State Bank | Guthrie | Oklahoma.
City National Bank & Trust Company | Guymon | Oklahoma.
The Bank of Kremlin | Kremlin | Oklahoma.
Liberty National Bank—Lawton | Lawton | Oklahoma.
Exchange National Bank | Moore | Oklahoma.
The Morris State Bank | Morris | Oklahoma.
First Security Bank and Trust Company | Oklahoma City | Oklahoma.
Oklahoma Educators Credit Union | Oklahoma City | Oklahoma.
Citizens Bank of Oklahoma | Pawhuska | Oklahoma.
Osage Federal Bank | Pawhuska | Oklahoma.
Security Bank | Pawnee | Oklahoma.
Exchange Bank and Trust Company | Perry | Oklahoma.
Central National Bank of Poteau | Poteau | Oklahoma.
First Pryority Bank | Pryor | Oklahoma.
Peoples Bank & Trust Company | Ryan | Oklahoma.
InterBank | Sayre | Oklahoma.
Southwest State Bank | Sentinel | Oklahoma.
Advantage Bank | Spencer | Oklahoma.
Bank of Commerce | Stilwell | Oklahoma.
American Bank and Trust Company | Tulsa | Oklahoma.
Sooner State Bank | Tuttle | Oklahoma.
The Bank of Union | Union City | Oklahoma.
First State Bank | Valliant | Oklahoma.
First State Bank | Watonga | Oklahoma.
Peoples Bank | Westville | Oklahoma.
The Bank of Wyandotte | Wyandotte | Oklahoma.
Yukon National Bank | Yukon | Oklahoma.
Federal Home Loan Bank of San Francisco—District 11
Western Security Bank | Scottsdale | Arizona.
Los Angeles National Bank | Buena Park | California.
Burbank City Federal Credit Union | Burbank | California.
Pacific Trust Bank | Chula Vista | California.
Kaiser Federal Bank | Covina | California.
Financial Partners Credit Union | Downey | California.
Centennial Bank | Fountain Valley | California.
Murphy Bank | Fresno | California.
USC Federal Credit Union | Los Angeles | California.
Neighborhood National Bank | National City | California.
Heritage Oaks Bank | Paso Robles | California
1st Centennial Bank | Redlands | California.
Provident Credit Union | Redwood Shores | California.
Provident Savings Bank, S.B | Riverside | California.
Five Star Bank | Rocklin | California.
River City Bank | Sacramento | California.
First U.S. Community Credit Union | Sacramento | California.
San Diego National Bank | San Diego | California.
Pacific Coast Bankers' Bank | San Francisco | California.
Bank of the Orient | San Francisco | California.
Meriwest Credit Union | San Jose | California.
Tamalpais Bank | San Rafael | California.
Santa Cruz Community Credit Union | Santa Cruz | California.
Los Padres Bank | Solvang | California.
Sonoma Valley Bank | Sonoma | California.
Bank of Stockton | Stockton | California.
South Bay Bank, N.A | Torrance | California.
Universal Bank | West Covina | California.
Federal Home Loan Bank of Seattle—District 12
Credit Union 1 | Anchorage | Alaska.
Citizens Security Bank (Guam), Inc | Agana | Guam.
FirstBank Northwest | Clarkston | Idaho.
Panhandle State Bank | Sand Point | Idaho.
First Citizens Bank of Billings | Billings | Montana.
First Citizens Bank of Butte | Butte | Montana.
Dutton State Bank | Dutton | Montana.
Valley Bank of Glasgow | Glasgow | Montana
1st Liberty Federal Credit Union | Great Falls | Montana.
Independence Bank | Havre | Montana.
Manhattan Bank | Manhattan | Montana.
Community Bank-Missoula, Inc | Missoula | Montana.
First Security Bank of Missoula | Missoula | Montana.
Community Bank, Inc | Ronan | Montana.
Basin State Bank | Stanford | Montana.
Evergreen FS&LA | Grants Pass | Oregon.
Bank of Eastern Oregon | Heppner | Oregon.
South Valley Bank and Trust | Klamath Falls | Oregon.
Bank of America Oregon, N.A | Portland | Oregon.
USU Charter Credit Union | Logan | Utah.
Franklin Templeton Bank & Trust, FSB | Salt Lake City | Utah.
American Marine Bank | Bainbridge Island | Washington.
Charter Bank | Bellevue | Washington.
Fife Commercial Bank | Fife | Washington.
Bank of Washington | Lynnwood | Washington.
Whidbey Island Bank | Oak Harbor | Washington.
Olympia FS&LA | Olympia | Washington.
TwinStar Credit Union | Olympia | Washington.
First FS & LA of Port Angeles | Port Angeles | Washington.
Washington Mutual Bank F.A | Seattle | Washington.
Seattle Savings Bank | Seattle | Washington.
Our Community Credit Union | Shelton | Washington.
Old Standard Life Insurance Company | Spokane | Washington.
Western United Life Assurance Co | Spokane Valley | Washington.
Riverview Community Bank | Vancouver | Washington.
Yakima FS&LA | Yakima | Washington.
One Bank of Star Valley | Afton | Wyoming.
Buffalo FSB | Buffalo | Wyoming.
Hilltop National Bank | Casper | Wyoming.
Tri-County Bank | Cheyenne | Wyoming.
Big Horn FSB | Greybull | Wyoming.
Oregon Trail Bank | Guernsey | Wyoming.
Rock Springs National Bank | Rock Springs | Wyoming.
Rocky Mountain Bank | Rock Springs | Wyoming.
Pinnacle Bank—Wyoming | Torrington | Wyoming.

II. Public Comments

To encourage the submission of public comments on the community support performance of Bank members, on or before February 27, 2009, each Bank will notify its Advisory Council and nonprofit housing developers, community groups, and other interested parties in its district of the members selected for community support review in the 2008-09 fourth quarter review cycle. 12 CFR 944.2(b)(2)(ii). In reviewing a member for community support compliance, FHFA will consider any public comments it has received concerning the member. 12 CFR 944.2(d). To ensure consideration by FHFA, comments concerning the community support performance of members selected for the 2008-09 fourth quarter review cycle must be delivered to FHFA on or before the March 27, 2009 deadline for submission of Community Support Statements.

Dated: February 6, 2009.
James B. Lockhart III,
Director, Federal Housing Finance Agency.

[FR Doc. E9-3057 Filed 2-11-09; 8:45 am]

BILLING CODE 8070-01-P